DEPARTMENT OF TRANSPORTATION

Federal Aviation Administration

Proposed Advisory Circular; Engine Instructions for Continued Airworthiness

AGENCY: Federal Aviation Administration, DOT.

ACTION: Notice of availability of proposed advisory circular and request for comments.

SUMMARY: This notice announces the availability of proposed Advisory Circular (AC) No. 20.XX, Turbojet, Turboprop & Turbofan Engine Induction System Icing.

DATES: Comments must be received on or before October 21, 2002.

ADDRESSES: Send all comments on the proposed AC to the Federal Aviation Administration, Attn: John Fisher, Engine and Propeller Standards Staff, ANE-110, 12 New England Executive Park, Burlington, MA 01803-5299.

FOR FURTHER INFORMATION CONTACT: John Fisher, Engine and Propeller Standards Staff, ANE-110, at the above address, telephone (781) 238-7149, fax (781) 238-7199, or e-mail to john.fisher@faa.gov.

SUPPLEMENTARY INFORMATION:

Comments Invited

A copy of the subject AC may be obtained by contacting the person named under FOR FURTHER INFORMATION CONTACT or by downloading the proposed AC from the following Internet Web site: http:\\www2.airweb.FAA.gov/Regulatory_and_Guidance_Library/RgDAC.nsf/mainframe?openframeset The FAA invites interested parties to comment on the proposed AC. Comments should identify the subject of the AC and be submitted to the individual identified under FOR FURTHER INFORMATION CONTACT. The FAA will consider all communications received by the closing date before issuing the final AC.

Background

This AC is on the subject of continued airworthiness of aircraft engines certificated under Title 14 of the Code of Federal Regulation (CFR) parts 33 and 25. The information and guidance presented in this AC would provide a method that can be used to demonstrate compliance with the requirements of §§ 25.1093, 33.68, 33.77, and 33.89.

On January 24, 2000, a Notice was published in the Federal Register (65 FR 3752), requesting public comments by February 23, 2000. Since then, those public comments, as well as other significant changes were made to the proposed AC. Therefore, this Notice announces an additional request for public comments on the revised AC proposal.

This advisory circular, published under the authority granted to the Administrator by 49 U.S.C. 106(g), 40113, 44701-44702, 44704, provides guidance for these proposed requirements.

Issued in Burlington, Massachusetts, on August 8, 2002.
Jay J. Pardee,
Manager, Engine and Propeller Directorate, Aircraft Certification Service.

[FR Doc. 02-21186 Filed 8-19-02; 8:45 am]

BILLING CODE 4910-13-M